DEPARTMENT OF ENERGY

Federal Energy Regulatory Commission

[Docket No. CP13-54-000]

ANR Pipeline Company; Notice of Request Under Blanket Authorization

Take notice that on January 18, 2013, ANR Pipeline Company (ANR), 717 Texas Street, Houston, Texas 77002-2761, filed in Docket No. CP13-54-000, an application pursuant to sections 157.205 and 157.216(b) of the Commission's Regulations under the Natural Gas Act (NGA) as amended, requesting authorization to abandon an 11,000 rated horsepower compressor unit and appurtenances, located on ANR's system at its Jena Compressor Station in La Salle Parish, Louisiana, and associated mainline capacity. The authorizations are requested under ANR's blanket certificate issued in Docket No. CP82-480-000,¹ all as more fully set forth in the application which is on file with the Commission and open to public inspection.

¹ See Michigan Wisconsin Pipe Line Co., 20 FERC ¶ 62,595 (1982).

ANR proposes to abandon in place Unit 107, with appurtenances, located on ANR's system at ANR's Jena CS in La Salle Parish, Louisiana. This unit was installed under the authority granted in CP70-183.² ANR intends to abandon Unit 107 because it is not needed to provide service, is oversized for current flows, and such abandonment will save on maintenance costs. The proposed abandonment activity will not involve ground disturbance or increases to operational air or noise emissions. The unit was not used to provide service to any of ANR's customers for over two years. The estimated cost to replicate the 11,000 rated horsepower compressor unit proposed to be abandoned is $24,684,000.

² See Michigan Wisconsin Pipe Line Co., 43 FPC 761 (1970).

The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application should be directed to Rene Staeb, Manager, Project Determinations & Regulatory Administration, ANR Pipeline Company, 717 Texas Street, Houston, Texas, 77002-2761, at (832) 320-5215 or fax (832) 320-6215 or Rene_Staeb@transcanada.com.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefor, the proposed activity shall be deemed to be authorized effective the day after the time allowed for filing a protest. If a protest is filed and not withdrawn within 30 days after the allowed time for filing a protest, the instant request shall be treated as an application for authorization pursuant to Section 7 of the NGA.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commentary will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy Regulatory Commission, 888 First Street NE., Washington, DC 20426.

Dated: January 23, 2013.
Kimberly D. Bose,
Secretary.

[FR Doc. 2013-01926 Filed 1-29-13; 8:45 am]

BILLING CODE 6717-01-P